U.S. INTERNATIONAL DEVELOPMENT FINANCE CORPORATION

[DFC-0016]

Submission for OMB Review; Comments Request

AGENCY: U.S. International Development Finance Corporation (DFC).

ACTION: Notice of information collection; request for comment.

SUMMARY: Under the provisions of the Paperwork Reduction Act, agencies are required to publish a Notice in the Federal Register notifying the public that the agency is renewing an existing information collection for OMB review and approval and requests public review and comment on the submission. The agencies received no comments in response to the sixty (60) day notice. The purpose of this notice is to allow an additional thirty (30) days for public comments to be submitted. Comments are being solicited on the need for the information; the accuracy of the burden estimate; the quality, practical utility, and clarity of the information to be collected; and ways to minimize reporting the burden, including automated collected techniques and uses of other forms of technology.

DATES: Comments must be received by December 19, 2023.

ADDRESSES: Comments and requests for copies of the subject information collection may be sent by any of the following methods:

• Mail: Deborah Papadopoulos, Records Management Specialist, U.S. International Development Finance Corporation, 1100 New York Avenue NW, Washington, DC 20527.

• Email: fedreg@dfc.gov.

Instructions: All submissions received must include the agency name and agency form number or OMB form number for this information collection. Electronic submissions must include the agency form number in the subject line to ensure proper routing. Please note that all written comments received in response to this notice will be considered public records.

FOR FURTHER INFORMATION CONTACT: Agency Submitting Officer: Deborah Papadopoulos, (202) 357-3979.

SUPPLEMENTARY INFORMATION: The agency received no comments in response to the sixty (60) day notice published in Federal Register at 88 FR 54308 on August 10, 2023. Upon publication of this notice, DFC will submit to OMB a request for approval of the following information collection.

Summary Form Under Review

Title of Collection: Application for Technical Assistance.

Type of Review: New Review.

Agency Form Number: DFC-0016.

OMB Form Number: XXXX-XXX.

Frequency: Once per applicant per project.

Affected Public: Business or other for-profit; not-for-profit institutions; individuals.

Total Estimated Number of Annual Number of Respondents: 250.

Estimated Time per Respondent: 1.5 hours.

Total Estimated Number of Annual Burden Hours: 375 hours.

Abstract: The Application for Technical Assistance is the principal document used by DFC to determine the applicants eligibility for technical assistance from DFC's TA unit.

Deborah Papadopoulos,
Records Management Specialist.

[FR Doc. 2023-23159 Filed 10-19-23; 8:45 am]

BILLING CODE 3210-02-P